DEPARTMENT OF HEALTH AND HUMAN SERVICES

Centers for Medicare & Medicaid Services

[CMS-5035-N]

Medicare Program; Senior Risk Reduction Demonstration

AGENCY: Centers for Medicare & Medicaid Services (CMS), HHS.

ACTION: Notice.

SUMMARY: This notice informs interested parties of an opportunity to apply to participate in a risk reduction/health management demonstration project. This notice also contains information on how to obtain the complete solicitation and supporting information.

DATES: Applications will be considered timely if we receive them on or before November 21, 2006.

ADDRESSES: Mail applications for the Senior Risk Reduction Demonstration to—Centers for Medicare & Medicaid Services, 7500 Security Boulevard, Baltimore, Maryland 21244-1850.

Medicare Demonstrations Program Group, Mail stop S3-02-01, Attention: Pauline Lapin.

FOR FURTHER INFORMATION CONTACT: Pauline Lapin, (410) 786-6883 or Sidney Trieger, (410) 786-6613.

SUPPLEMENTARY INFORMATION:

I. Background

The aging of the population, the prevalence of chronic disease, and the rapidly rising cost of health care in the United States provides a sense of urgency and immediacy for finding innovative solutions that would improve the health and well-being of seniors and prevent or delay debilitating and costly disease onset.

Recent research suggests that well-structured risk reduction programs can achieve significant improvements in a population's health risk profile. Successful programs are founded on solid behavior change theory, use tailored interventions, are personalized and sufficiently intensive, and are delivered with adequate social supports. In 2001, CMS commissioned RAND, and RAND prepared, a report on risk reduction programs entitled, “The Evidence Report and Evidence Based Recommendations: Health Risk Appraisals and Medicare.” This report concluded that effective risk reduction programs, beginning with the administration of a Health Risk Appraisal (HRA) and including evidence-based and tailored behavior change through follow-up interventions, exert a beneficial effect on behavioral, physiological, and general health status outcomes. Other supportive studies have shown that multicomponent health promotion programs that engage participants in self-care activities and increase their involvement in health care decision-making can achieve long-term behavior changes and health risk reductions in large populations.

Also, evidence is mounting that successful risk reduction programs may produce a positive return on investment. Based on this evidence, the RAND report concluded that health promotion and disease prevention programs using HRAs and ongoing tailored interventions may be cost beneficial. Experts agree that the approach used in risk reduction programs is promising for Medicare beneficiaries and should be tested in a demonstration project.

II. Provisions of the Notice

The purpose of the notice is to inform interested parties of an opportunity to implement a risk reduction/health management program as part of the Medicare Senior Risk Reduction Demonstration. The goal of this demonstration project is to determine whether risk reduction programs (also referred to as health promotion, health management, demand management, and disease prevention programs) that have been developed and tested in the private sector can also be tailored to, and work well with, Medicare beneficiaries to improve their health and reduce avoidable health care utilization. The specific aims are to—

• Determine whether a senior risk reduction service provided by Medicare will—

—Be viewed positively by beneficiaries.

—Be accepted by beneficiaries.

—Achieve high participation rates.

—Reduce health risk factors, improve health behaviors, improve functioning, and prevent disability.

• Produce cost savings for the Medicare program.

Applicants must be willing to accept a 10 percent withhold of their fee each year, and as much as a 15 percent withhold over the course of the demonstration should Medicare expenditures for the intervention group exceed those of the control group by more than 5 percent after the first 18 months of the demonstration.

We intend to use a competitive application process to select up to five existing health promotion, disease prevention, health management, or risk reduction organizations to participate in the demonstration project. Interested parties can obtain complete solicitation and supporting information on the CMS Web site at http://www.cms.hhs.gov/DemoProjectsEvalRpts/downloads/Senior_Risk_Reduction_Solicitation.pdf.

We anticipate that we will make final award decisions by April 1, 2007, and that project implementation activities would begin July 1, 2007.

III. Collection of Information Requirements

The document does impose information collection and recordkeeping requirements. However, since we believe there are less than 10 potential respondents, of which CMS will be selecting 5 applicants to participate in the demonstration, this collection is exempt from the PRA as stipulated under 5 CFR 1320.3(c)(4).

Authority: Section 402(a)(1)(B) of the Social Security Amendments of 1967, Pub. L. No. 90-248, as amended, 42 U.S.C. 1395b-1(a)(1)(B) and (a)(2).

(Catalog of Federal Domestic Assistance No. 93.773 Medicare—Hospital Insurance Program; and No. 93.774, Medicare—Supplementary Medical Insurance Program).
Dated: July 20, 2006.
Mark B. McClellan,
Administrator, Centers for Medicaid & Medicare Services.

[FR Doc. 06-7120 Filed 8-21-06; 4:00 pm]

BILLING CODE 4120-01-M